DEPARTMENT OF JUSTICE

National Institute of Corrections

Solicitation for a Cooperative Agreement—Jail as Part of County Government: Review and Revision

AGENCY: National Institute of Corrections, U.S. Department of Justice.

ACTION: Solicitation for a Cooperative Agreement.

SUMMARY: The National Institute of Corrections (NIC) Jails Division is seeking applications for the revision of its Jail as Part of County Government training program. The project will be for a 9-month period and will be completed with the NIC Jails Division. The awardee will work closely with NIC staff on all aspects of the project. To be considered, applicants must demonstrate, at a minimum, in-depth knowledge of: (1) The purpose, functions, and operational complexities of local jails, (2) liability issues common in jails, (3) the nature of the relationship between jail officials and their funding authorities, (4) the challenges inherent in the unique relationship between an elected sheriff and the local funding authority, (5) the resource constraints faced by many local governments and their jails, and (6) strategies for creating a productive working relationship between jail officials and their funding authority. Also, the applicant must demonstrate expertise and experience in developing curricula based on adult learning principles, specifically the Instructional Theory into Practice (ITIP) model.

DATES: Applications must be received by 4 p.m. (EDT) on Thursday, January 19, 2012.

ADDRESSES: Mailed applications must be sent to: Director, National Institute of Corrections, 320 First Street NW., Room 5002, Washington, DC 20534. Applicants are encouraged to use Federal Express, UPS, or similar service to ensure delivery by the due date as mail at NIC is sometimes delayed due to security screening.

Applicants who wish to hand-deliver their applications should bring them to 500 First Street NW., Washington, DC 20534, and dial (202) 307-3106, ext. 0, at the front desk for pickup.

Faxed or emailed applications will not be accepted; however, electronic applications can be submitted via http://www.grants.gov.

FOR FURTHER INFORMATION CONTACT: A copy of this announcement and the required application forms can be downloaded from the NIC Web site at http://www.nicic.gov/cooperativeagreements. Questions about this project and the application procedures should be directed to Erika McDuffe, Correctional Program Specialist, National Institute of Corrections. Questions must be emailed to Ms. McDuffe at emcduffe@bop.gov. Ms. McDuffe will respond by email to the individual. Also, all questions and responses will be posted on NIC's Web site at http://www.nicic.gov for public review. (The names of those submitting the questions will not be posted). The Web site will be updated regularly and postings will remain on the Web site until the closing date of this cooperative agreement solicitation.

SUPPLEMENTARY INFORMATION: Background: NIC's Jail as Part of County Government is a 3-day training program that focuses on the relationship between local jail officials and their funding authority. It is held in various regions throughout the county and is attended by 3-person teams from each of 8-10 jurisdictions. Each team consists of the county sheriff, jail administrator, and the county supervisor or county commissioner.

The goal of the program is to foster a more positive and productive working relationship between jail officials and their funding authority. This relationship is often strained due to (1) competition among county departments for scarce resources, (2) the funding authority's lack of understanding of the jail's mission, operations, and resource needs, and (3) jail officials' lack of understanding of the challenges that funding officials face. As a result of the lack of understanding between jail and funding officials, jails often receive inadequate resources to operate safely and securely.

Current topics in Jail as Part of County Government include (1) the jail's role in the local criminal justice system, (2) liability issues in jails as they apply to both jail and funding officials, (3) factors in determining adequate staffing levels for the jail, (4) jail budgeting, (5) key elements of effective jail operations, and (6) building effective working relationships between jails and funding officials.

NIC now wishes to update the content of this program and ensure its design conforms to the ITIP model. The following reference materials are posted with this announcement on NIC's Web site: Jail as Part of County Government: Lesson Plans; Jail as Part of County Government: Participant Manual; Jail as Part of County Government: Presentation Slides; Jail as Part of County Government: Activities.

Scope of Work: The cooperative agreement awardee will revise the content of the current program to ensure it is current, accurate, and relevant. The awardee also will ensure module sequencing is logical and enhances the flow of the program. Finally, the awardee will revise the program's design to conform to the ITIP model. The awardee will ensure that content, module sequencing, and instructional strategies effectively contribute to meeting the program's goal. To achieve this, the awardee will complete the following activities, at a minimum.

Initial Meeting: The cooperative agreement awardee, with the subject matter expert and the curriculum specialist, will attend an initial meeting with NIC staff for a project overview and preliminary planning. This will occur shortly after the cooperative agreement is awarded. The meeting will last up to one half day and will be conducted via WebEx.

Initial curriculum review: The awardee will review and become familiar with the current lesson plans, presentation slides, participant manual, and other training materials. The awardee will document any comments based on this review for discussion at the initial curriculum review.

Curriculum review meeting with NIC staff: After becoming familiar with the curriculum, the awardee (project director, subject matter experts, and curriculum specialist) will meet with NIC staff for 3 days in Washington, DC, to discuss the program's goal, audience, and design. The awardee and NIC staff will identify needed revisions to content, instructional strategies, presentation slides, the participant manual, and other training materials.

In the cooperative agreement application, the awardee is required to project milestones and dates for the completion of all project activities. Based on the decisions made during the initial meeting, the awardee and NIC staff may set additional dates for completion of specific activities.

The awardee will document primary discussion points and all decisions made during the meeting and will give NIC this documentation within 2 weeks of the meeting.

Draft revisions and NIC review: Based on decisions made during the initial meeting, the awardee will draft revisions to the curriculum. Lesson plan revisions will be completed first. The awardee will send revised lesson plans to NIC staff for review and approval before any other materials are developed. Once the lesson plans are approved, the awardee will draft revisions to the presentation slides and participant manual. The awardee will also send these draft revisions to NIC staff for review and approval. Finally, the awardee will draft participant evaluation forms to be completed after each module and at the end of the program and will send these to NIC staff for approval.

Program Pilot: The awardee will conduct one pilot of the revised curriculum at a location yet to be determined. The awardee, with NIC staff, will identify trainers for this pilot. The awardee will hire these trainers and pay their fees and expenses.

The awardee will also pay fees and expenses for the project director and curriculum specialist, both of whom are required to attend the entire program. If qualified, the project director or others on the cooperative agreement team may be included among the trainers.

The awardee will print all program materials for the instructors and the participants and will assume the cost of this. The awardee will send one full set of these materials to NIC staff prior to the program for approval.

During the pilot, the awardee, curriculum specialist, and trainers will meet regularly with NIC staff to discuss their observations about the revised program and the participants' responses. They will also review and discuss the module evaluations each day.

The awardee will document the main discussion points and decisions from these meetings. The awardee will also summarize all participant evaluations (module and end-of-program). The awardee will submit the documentation of the meetings, the evaluation summaries, and all participant evaluations to NIC within 2 weeks after the program.

Final program revisions: Based on the results of the pilot program and discussion with NIC staff, the awardee will draft additional curriculum revisions. The awardee will send the drafts to NIC staff for review and approval before creating the final curriculum.

Final product: The final curriculum will include a program description (overview), detailed narrative lesson plans, presentation slides for each lesson plan, a participant manual that follows the lesson plans, and other training materials as identified through this project. The curriculum will be designed according to the ITIP model for adult learners. Lesson plans will be in a format that NIC provides. The awardee will deliver all materials in hard copy (1) and on a disk. The awardee must also ensure that all products meet NIC's standards for accessibility and Section 508 compliance.

Meetings: In addition to the initial WebEx meeting and the curriculum review meeting noted above, the awardee will attend other meetings with NIC staff as needed for project development and updates. These meetings will include, at a minimum: 1 two-day meeting in Washington, DC, and several WebEx meetings. The WebEx meetings will be hosted by NIC and will last up to 4 hours each. NIC will pay to host the WebEx meetings, but fees for project staff who attend will be charged to the cooperative agreement. For all meetings, the awardee should plan to have the project director, subject matter experts, and the curriculum specialist attend.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://nicic.gov/Downloads/General/certif-frm.pdf)

Applications should be concisely written, typed double spaced, and reference the NIC opportunity number and title referenced in this announcement. If you are hand delivering or submitting via Fed-Ex, please include an original and three copies of your full proposal (program and budget narrative, application forms, assurances and other descriptions). The original should have the applicant's signature in blue ink. Electronic submissions will be accepted only via http://www.grants.gov.

The narrative portion of the application should include, at a minimum a brief paragraph indicating the applicant's understanding of the project's purpose; a brief paragraph that summarizes the project goals and objectives; a clear description of the methodology that will be used to complete the project and achieve its goals; a statement or chart of measurable project milestones and timelines for the completion of each milestone; a description of the qualifications of the applicant organization and a resume for the principle and each staff member assigned to the project (including instructors) that documents relevant knowledge, skills, and abilities to complete the project; and a budget that details all costs for the project, shows consideration for all contingencies for the project, and notes a commitment to work within the proposed budget.

In addition to the narrative and attachments, the applicant must submit only one full curriculum developed by the primary curriculum developer named in the application. This curriculum must be in ITIP format and include lesson plans, presentation slides, and a participant manual, at a minimum.

Authority: Public Law 93-415.

Funds Available: NIC is seeking the applicant's best ideas regarding accomplishment of the scope of work and the related costs for achieving the goals of this solicitation. Funds may be used only for the activities that are linked to the desired outcome of the project. The funding amount should not exceed $ 80,000.

Eligibility of Applicants: An eligible applicant is any state or general unit of local government, private agency, educational institution, organization, individual, or team with expertise in the described areas. Applicants must have demonstrated ability to implement a project of this size and scope.

Review Considerations: Applications will be subject to the NIC review process. The criteria for the evaluation of each application are:

Project Design and Management—25 Points

Is there a clear understanding of the purpose of the project and the nature and scope of project activities? Does the applicant give a clear and complete description of all work to be performed for this project? Does the applicant clearly describe a work plan, including objectives, tasks, and milestones necessary to project completion?

Applicant Organization & Project Staff Background—25 Points

Is there a description of the background and expertise of all project personnel as they relate to this project? Does the applicant have an established reputation or skill that makes the applicant particularly well qualified for the project? Does the staffing plan propose sufficient and realistic time commitments from key personnel?

Budget—20 Points

Does the application provide adequate cost detail to support the proposed budget? Does the application include a chart that aligns the budget with project activities along a timeline with, at a minimum, quarterly benchmarks? In terms of program value, is the estimated cost reasonable in relation to work performed and project products?

Sample Curriculum—30 Points

Does the sample curriculum include all components specified in the RFP (lesson plans, presentation slides, and participant manual)? Are the lesson plans designed according to the ITIP model? Are the lesson plans detailed, clear, and well written (spelling, grammar, punctuation)? Is the participant manual clear, and does it follow the lesson plans?

Note: NIC will NOT award a cooperative agreement to an applicant who does not have a Dun and Bradstreet Database Universal Number (DUNS) and is not registered in the Central Contractor Registry (CCR). Applicants can obtain a DUNS number at no cost by calling the dedicated toll-free DUNS number request line at (800) 333-0505. Applicants who are sole proprietors should dial (866) 705-5711 and select option #1.

Applicants may register in the CCR online at the CCR Web site at http://www.ccr.gov. Applicants can also review a CCR handbook and worksheet at this Web site.

Number of Awards: One.

NIC Opportunity Number: 12JA02. This number should appear as a reference line in the cover letter, where the opportunity number is requested on Standard Form 424, and on the outside of the envelope in which the application is sent.

Catalog of Federal Domestic Assistance Number: 16.601.

Executive Order 12372: This project is not subject to the provisions of the executive order.

Thomas J. Beauclair,
Deputy Director, National Institute of Corrections.

[FR Doc. 2011-33114 Filed 12-23-11; 8:45 am]

BILLING CODE 4410-36-P